DEPARTMENT OF TRANSPORTATION

Federal Aviation Administration

14 CFR Part 39

[Docket No. FAA-2021-1003; Project Identifier AD-2021-01141-R; Amendment 39-21899; AD 2022-02-02]

RIN 2120-AA64

Airworthiness Directives; Bell Textron Inc. (Type Certificate Previously Held by Bell Helicopter Textron Inc.) Helicopters

AGENCY: Federal Aviation Administration (FAA), DOT.

ACTION: Final rule.

SUMMARY: The FAA is superseding Airworthiness Directive (AD) 2021-15-51, which applied to Bell Textron Inc. (type certificate previously held by Bell Helicopter Textron Inc.) Model 204B, 205A, 205A-1, 205B, and 212 helicopters. AD 2021-15-51 required removing certain main rotor hub strap pins (pins) from service and prohibited installing them on any helicopter. Since the FAA issued AD 2021-15-51, it was determined that a defective pin could also be installed on Bell Textron Inc. Model 210 helicopters. This AD continues the required actions in AD 2021-15-51 and expands the applicability to add Model 210 helicopters. The FAA is issuing this AD to address the unsafe condition on these products.

DATES: This AD is effective February 16, 2022.

ADDRESSES: For service information identified in this final rule, contact Bell Textron, Inc., P.O. Box 482, Fort Worth, TX 76101; telephone (450) 437-2862 or (800) 363-8023; fax (450) 433-0272; email productsupport@bellflight.com; or at https://www.bellflight.com/support/contact-support. You may view this service information at the FAA, Office of the Regional Counsel, Southwest Region, 10101 Hillwood Pkwy., Room 6N-321, Fort Worth, TX 76177. For information on the availability of this material at the FAA, call (817) 222-5110.

Examining the AD Docket

You may examine the AD docket at https://www.regulations.gov by searching for and locating Docket No. FAA-2021-1003; or in person at Docket Operations between 9 a.m. and 5 p.m., Monday through Friday, except Federal holidays. The AD docket contains this final rule, any comments received, and other information. The address for Docket Operations is U.S. Department of Transportation, Docket Operations, M-30, West Building Ground Floor, Room W12-140, 1200 New Jersey Avenue SE, Washington, DC 20590.

FOR FURTHER INFORMATION CONTACT: David Wilson, Aerospace Engineer, DSCO Branch, Compliance & Airworthiness Division, FAA, 10101 Hillwood Pkwy., Fort Worth, TX 76177; telephone (817) 222-5786; email david.wilson@faa.gov.

SUPPLEMENTARY INFORMATION:

Background

The FAA issued Emergency AD 2021-15-51 on July 6, 2021, and it published as a Final rule; request for comments on August 9, 2021 as Amendment 39-21678 (86 FR 43406) (AD 2021-15-51). AD 2021-15-51 applied to Bell Textron Inc., Model 204B, 205A, 205A-1, 205B, and 212 helicopters with a pin part number (P/N) 204-012-104-005 with a serial number (S/N) prefix “FNFS” installed. AD 2021-15-51 was prompted by a fatal accident of a Model 212 helicopter in which a pin P/N 204-012-104-005 with an S/N prefix “FNFS” sheared off during flight, which resulted in the main rotor blade and the main rotor head detaching from the helicopter. The pin had accumulated only 20 total hours time-in-service (TIS). An inspection of a different Model 212 helicopter revealed that another pin installed, and made by the same manufacturer and with the same S/N prefix, was deformed; this pin had accumulated only 29 total hours TIS. Because an affected pin could also be installed on other helicopters, AD 2021-15-51 also applied to Model 204B, 205A, 205A-1, and 205B helicopters. Failure of a pin could result in the main rotor blade detaching from the helicopter and subsequent loss of control of the helicopter.

After AD 2021-15-51 was issued, it was determined that an affected pin could also be installed on Model 210 helicopters. Therefore, the FAA issued a notice of proposed rulemaking (NPRM) to amend 14 CFR part 39 to supersede AD 2021-15-51. The NPRM published in the Federal Register on November 19, 2021 (86 FR 64832) and it proposed to continue to require all of the requirements of AD 2021-15-51 and add Model 210 helicopters to the applicability.

Discussion of Final Airworthiness Directive

Comments

The FAA received no comments on the NPRM or on the determination of the costs.

Conclusion

The FAA reviewed the relevant data and determined that air safety requires adoption of the AD as proposed. Accordingly, the FAA is issuing this AD to address the unsafe condition on these products. Except for minor editorial changes, this AD is adopted as proposed in the NPRM.

Related Service Information

The FAA reviewed Bell Alert Service Bulletins (ASBs), each Revision A and dated July 22, 2021:

• ASB 204B-21-74 for Model 204B helicopters, S/Ns 2001 through 2070 and 2196 through 2199;

• ASB 205-21-117 for Model 205A and 205A-1 helicopters, S/Ns 30001 through 30065, 30067 through 30165, 30167 through 30187, 30189 through 30296, and 30298 through 30332;

• ASB 205B-21-71 for Model 205B helicopters, S/Ns 30066, 30166, 30188 and 30297;

• ASB 210-21-14 for all Model 210 helicopters, and

• ASB 212-21-165 for Model 212 helicopters, S/Ns 30501 through 30999, 31101 through 31311, 32101 through 32142, and 35001 through 35103.

The ASBs specify removing all P/N 204-012-104-005 pins with an S/N prefix “FNFS” before further flight. The ASBs also specify that, although the investigation is still in progress, removing these pins from service is required. The ASBs state that these pins may not have been manufactured in accordance with the engineering design requirements and may therefore shear as a result of this nonconformance.

Interim Action

The FAA considers this AD to be an interim action. If final action is later identified, the FAA might consider further rulemaking.

Costs of Compliance

The FAA estimates that this AD affects 155 helicopters of U.S. Registry. Labor rates are estimated at $85 per work-hour. Based on these numbers, the FAA estimates the following costs to comply with this AD.

Replacing up to four pins takes about 20 work-hours and parts cost about $1,756 for four pins for an estimated cost of up to $3,456 per helicopter, and up to $535,680 for the U.S. fleet.

The FAA has included all known costs in its cost estimate. According to the manufacturer, however, some of the costs of this AD may be covered under warranty, thereby reducing the cost impact on affected individuals.

Authority for This Rulemaking

Title 49 of the United States Code specifies the FAA's authority to issue rules on aviation safety. Subtitle I, Section 106, describes the authority of the FAA Administrator. Subtitle VII, Aviation Programs, describes in more detail the scope of the Agency's authority.

The FAA is issuing this rulemaking under the authority described in Subtitle VII, Part A, Subpart III, Section 44701, General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA has determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by:

a. Removing Airworthiness Directive 2021-15-51, Amendment 39-21678 (86 FR 43406, August 9, 2021); and

b. Adding the following new airworthiness directive:

FAA-2021-1003 Bell Textron Inc. (Type Certificate Previously Held by Bell Helicopter Textron Inc.): Amendment 39-21899; Docket No. FAA-2021-1003; Project Identifier AD-2021-01141-R.

(a) Effective Date

This airworthiness directive (AD) is effective February 16, 2022.

(b) Affected ADs

This AD replaces AD 2021-15-51, Amendment 39-21678 (86 FR 43406, August 9, 2021) (AD 2021-15-51).

(c) Applicability

This AD applies to Bell Textron Inc. (type certificate previously held by Bell Helicopter Textron Inc.) Model 204B, 205A, 205A-1, 205B, 210, and 212 helicopters, certificated in any category, with an outboard main rotor hub strap pin (pin) part number 204-012-104-005 with a serial number prefix “FNFS” installed.

(d) Subject

Joint Aircraft System Component (JASC) Code: 6200, Main Rotor System.

(e) Unsafe Condition

This AD was prompted by a fatal accident in which a pin sheared off during flight, which resulted in the main rotor blade and the main rotor head detaching from the helicopter. The FAA is issuing this AD to address this unsafe condition and prevent loss of control of the helicopter.

(f) Compliance

Comply with this AD within the compliance times specified, unless already done.

(g) Required Actions

(1) For Model 204B, 205A, 205A-1, 205B, and 212 helicopters:

(i) Before further flight from August 24, 2021 (the effective date of AD 2021-15-51), remove from service any pin that is identified in paragraph (c) of this AD.

(ii) After August 24, 2021 (the effective date of AD 2021-15-51), do not install any pin that is identified in paragraph (c) of this AD on any helicopter.

(2) For Model 210 helicopters:

(i) Before further flight after the effective date of this AD, remove from service any pin that is identified in paragraph (c) of this AD.

(ii) As of the effective date of this AD, do not install any pin that is identified in paragraph (c) of this AD on any helicopter.

(h) Special Flight Permits

Special flight permits are prohibited.

(i) Alternative Methods of Compliance (AMOCs)

(1) The Manager, DSCO Branch, Compliance & Airworthiness Division, FAA, has the authority to approve AMOCs for this AD, if requested using the procedures found in 14 CFR 39.19. In accordance with 14 CFR 39.19, send your request to your principal inspector or local Flight Standards District Office, as appropriate. If sending information directly to the manager of the DSCO Branch, send it to the attention of the person identified in paragraph (j) of this AD. Information may be emailed to: 9-ASW-190-COS@faa.gov.

(2) Before using any approved AMOC, notify your appropriate principal inspector, or lacking a principal inspector, the manager of the local flight standards district office/certificate holding district office.

(j) Related Information

For more information about this AD, contact David Wilson, Aerospace Engineer, DSCO Branch, Compliance & Airworthiness Division, FAA, 10101 Hillwood Pkwy., Fort Worth, TX 76177; telephone (817) 222-5786; email david.wilson@faa.gov.

(k) Material Incorporated by Reference

None.

Issued on January 4, 2022.
Ross Landes,
Deputy Director for Regulatory Operations, Compliance & Airworthiness Division, Aircraft Certification Service.

[FR Doc. 2022-00351 Filed 1-11-22; 8:45 am]

BILLING CODE 4910-13-P